DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 20, 2006.

Address Comments to: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permit is published in accordance with part 107 of the Federal hazardous materials transportation law (49 U.S.C. 5117(b); 49 CFR 1.53(b)).

Issued in Washington, DC, on February 13, 2006.
R. Ryan Posten,
Chief, Special Permits Program, Office of Hazardous Materials, Special Permits & Approvals.

New Special Permits
Application No. | Docket No. | Applicant | Regulation(s) affected | Nature of special permits thereof
14310-N |  | Praxair, Danbury, CT | 49 CFR 173.301(f) | To authorize the transportation in commerce of certain Division 2.3 gases in DOT specification cylinders without pressure relief devices. (modes 1, 3).
14311-N |  | The Boeing Company, St. Louis, MO | 49 CFR 173.304a; 175.3 | To authorize the transportation in commerce of cylinders manufactured under DOT-E 7945 without a strong outer packaging. (mode 1).
14312-N |  | National Electrical Manufacturers Association, Rosslyn, VA | 49 CFR 173.421, 173.422, 173.423, 173.424 | To authorize the transportation in commerce of certain lamp and lamp components containing limited quantities of radioactive material without marking the identification number on the package. (modes 1, 2, 3, 4, 5).
14313-N |  | Airgas, Inc., Radnor, PA | 49 CFR 173.302a (b)(2), (3), (4) and (5), 180.205, 180.209, 172.203(a), 172.301(c) | To authorize the use of ultrasonic inspection as an alternative retest method for certain DOT specification cylinders and certain cylinders manufactured under a DOT special permit. (modes 1, 2, 3).
14314-N |  | North American Automotive Hazmat Action Committee | 49 CFR 173.166(d) | To authorize the transportation in commerce of certain Class 9 seat belt pretensioner devices not subject to 49 CFR Parts 171-180 except for shipping papers and special permit package markings when transported by motor vehicle of rail freight. (modes 1, 2).
14315-N |  | Safe-T-Tank Corp., Meriden, CT | 49 CFR 177.834 | To authorize the manufacture, mark, sale and use of non-bulk, non-DOT Specification metal refueling tanks for transportation of certain Class 3 liquids. (mode 1).
14316-N |  | VOTG North America, Inc., West Chester, PA | 49 CFR 173.315 | To authorize use of a non-DOT specification IMO Type 5 portable tank, for transportation of liquefied compressed gases. (modes 1, 2, 3).
14317-N |  | GLI Citergaz St. Pierre D'Exideuil, Civray, France | 49 CFR 173.315 | To authorize the manufacture, mark, sale and use of certain non-DOT specification steel portable tanks conforming with Section VIII, Division 2 of the ASME Code for the transportation in commerce of Division 2.1 and 2.2 materials. (modes 1, 2, 3).
14318-N |  | Lockheed Martin Technical Operations, Vandenberg AFB, CA | 49 CFR 173.315 | To authorize transportation in commerce of non-DOT specification portable tanks conforming with the 2004 edition of Section VIII, Division 1 of the ASME Code for the transportation in commerce of certain toxic or corrosive hazardous materials. (modes 1, 3, 4).

[FR Doc. 06-1512 Filed 2-16-06; 8:45 am]

BILLING CODE 4909-60-M